DEPARTMENT OF ENERGY

[Docket No. PP-334-1]

Notice of Availability of Amended Record of Decision for Issuing a Presidential Permit to Energia Sierra Juarez U.S. Transmission, LLC, for the Energia Sierra Juarez U.S. Transmission Line Project

AGENCY: Grid Deployment Office, U.S. Department of Energy (DOE).

ACTION: Notice of availability.

SUMMARY: The Grid Deployment Office (GDO) of the Department of Energy (DOE) gives notice of an Amended Record of Decision (ROD) published under the National Environmental Policy Act of 1969 (NEPA) and DOE's NEPA implementing regulations. This Amended ROD supports DOE's decision to amend the existing Presidential permit issued to Energia Sierra Juarez U.S. Transmission, LLC (ESJ), to construct, operate, maintain, and connect a double-circuit, 230,000-volt (230-kV) electric transmission line (ESJ Tie Line) across the U.S.-Mexico border in eastern San Diego County, California.

FOR FURTHER INFORMATION CONTACT: Christina Gomer, Grid Deployment Office (GD-20), U.S. Department of Energy, 1000 Independence Avenue SW, Washington, DC 20585, by phone at (240) 474-2403, or by email at electricity.exports@hq.doe.gov.

For general information on the DOE NEPA process, contact Brian Costner, Director, Office of NEPA Policy and Compliance (GC-54), U.S. Department of Energy, 1000 Independence Avenue SW, Washington, DC 20585; by email at askNEPA@hq.doe.gov; or by facsimile at (202) 586-7031.

SUPPLEMENTARY INFORMATION: The potential environmental impacts associated with issuance of a Presidential permit to authorize the construction of ESJ's proposed transmission line and operation of the line with a capacity to transmit up to 1,250 megawatts (MW) were analyzed in the Energia Sierra Juarez U.S. Transmission Line Project Final Environmental Impact Statement (FEIS)(DOE/EIS-0414) issued in 2012 and Supplemental to the Energia Sierra Juarez U.S. Transmission Line Project Final Environmental Impact Statement (SEIS) (DOE/EIS-0414-S1) issued in 2018.

Although DOE analyzed the environmental impacts of up to 1,250 MW in the FEIS and SEIS, DOE issued a Record of Decision (ROD) and Presidential Permit No. PP-334, both in August of 2012, which conditioned the maximum non-simultaneous rate of transmission over the permitted facilities to no-greater-than 400 MW (Article 3, of PP-334). The permit condition limiting the rate of transmission to 400 MW was not based on any concerns about environmental impacts disclosed in the FEIS. Rather, this limit was included in the permit because grid reliability studies at the time were completed only for the interconnection of an initial 400 MW of electrical output.

On May 18, 2022, ESJ submitted an application requesting that DOE amend Article 3 of PP-334 to increase the maximum authorized rate of transmission across the approved facilities to 700 MW (Proposed Action). GDO has evaluated the environmental effects of the Proposed Action in Supplemental Analysis Regarding the Energia Sierra Juarez U.S. Transmission Line Project Final Environmental Impact Statement (SA) (DOE/EIS-0414-S1-SA-1). In this ROD, DOE announces its decision to issue an amended Presidential permit (PP-334-1) to increase the operational limit from 400 MW to 700 MW. The FEIS, SEIS, SA, and ROD are available on the DOE NEPA website at: www.energy.gov/nepa/articles/doeeis-0414-amended-record-decision.

Signing Authority

This document of the Department of Energy was signed on October 24, 2023, by Maria D. Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 24, 2023.
Treena V. Garrett,
Federal Register Liaison Officer, U.S. Department of Energy.

[FR Doc. 2023-23834 Filed 10-27-23; 8:45 am]

BILLING CODE 6450-01-P